DEPARTMENT OF ENERGY

Federal Energy Regulatory Commission

[Docket No. CP02-78-000]

Maritimes & Northeast Pipeline, L.L.C.; Notice of Technical Conference

September 6, 2002.

Maritimes & Northeast Pipeline, L.L.C. (Maritimes) seeks authorization, pursuant to Section 7(c) of the Natural Gas Act (NGA), to construct and operate pipeline facilities (the Phase IV Project) that will result in an increase of approximately 385,000 dekatherms per day in year-round mainline design capacity. The proposed facilities for the Phase IV Project will, in part, be located on the facilities that Maritimes owns jointly with Portland Natural Gas Transmission System (PNGTS). PNGTS has protested Maritimes' filing stating that it violates the agreements governing the ownership, expansion rights and operation of the jointly-owned facilities and asks that the Commission reject the application.

Take notice that a technical conference to discuss the issues raised by the PNGTS protest will be held on Tuesday, September 17, 2002, at 10 a.m., in a room to be designated at the offices of the Federal Energy Regulatory Commission, 888 First Street, NE., Washington, DC 20426.

All interested parties and staff are permitted to attend. For further information contact Jeff Wright at (202) 502-8617.

Magalie R. Salas,
Secretary.

[FR Doc. 02-23207 Filed 9-11-02; 8:45 am]

BILLING CODE 6717-01-P